DEPARTMENT OF AGRICULTURE

Animal and Plant Health Inspection Service

[Docket No. APHIS-2020-0041]

Notice of Request for Extension of Approval of an Information Collection; National Veterinary Accreditation Program

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the National Veterinary Accreditation Program application form.

DATES: We will consider all comments that we receive on or before September 14, 2020.

ADDRESSES: You may submit comments by either of the following methods:

• Federal eRulemaking Portal: Go to http://www.regulations.gov/#!docketDetail;D=APHIS-2020-0041.

• Postal Mail/Commercial Delivery: Send your comment to Docket No. APHIS-2020-0041, Regulatory Analysis and Development, PPD, APHIS, Station 3A-03.8, 4700 River Road, Unit 118, Riverdale, MD 20737-1238.

Supporting documents and any comments we receive on this docket may be viewed at http://www.regulations.gov/#!docketDetail;D=APHIS-2020-0041 or in our reading room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the National Veterinary Accreditation Program application form, contact Dr. Todd Behre, Veterinary Medical Officer, National Veterinary Accreditation Program, VS, APHIS, 4700 River Road, Unit 64, Riverdale, MD 20737; (301) 851-3401. For additional information about the information collection process, contact Mr. Joseph Moxey, APHIS' Information Collection Coordinator, at (301) 851-2483.

SUPPLEMENTARY INFORMATION:

Title: National Veterinary Accreditation Program.

OMB Control Number: 0579-0297.

Type of Request: Extension of approval of an information collection.

Abstract: Under the Animal Health Protection Act (7 U.S.C. 8301 et seq.), the Secretary of Agriculture is authorized to protect the health of U.S. livestock by preventing the introduction and interstate spread of serious diseases and pests of livestock and for eradicating such diseases from the United States when feasible. This authority has been delegated to the Animal and Plant Health Inspection Service (APHIS). In connection with this mission, the U.S. Department of Agriculture established the National Veterinary Accreditation Program (NVAP) so that accredited private practitioners can assist Federal veterinarians in controlling animal diseases and facilitating the movement of animals. Regulations concerning the accreditation of veterinarians and the suspension and revocation of accreditation are in 9 CFR parts 160 through 162.

NVAP is a voluntary program that is administered by APHIS. As part of this program, APHIS uses an NVAP application form to collect information regarding an applicant's eligibility for accreditation and, among other things, to update an individual's contact information and renew or revise his or her accreditation status.

We are asking the Office of Management and Budget (OMB) to approve our use of this information collection activity for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.50 hours per response.

Respondents: Veterinarians.

Estimated annual number of respondents: 23,800.

Estimated annual number of responses per respondent: 1.

Estimated annual number of responses: 23,801.

Estimated total annual burden on respondents: 11,901 hours. (Due to averaging, the total annual burden hours may not equal the product of the annual number of responses multiplied by the reporting burden per response.)

All responses to this notice will be summarized and included in the request for OMB approval. All comments will also become a matter of public record.

Done in Washington, DC, this 8th day of July 2020.
Mark Davidson,
Acting Administrator, Animal and Plant Health Inspection Service.

[FR Doc. 2020-15103 Filed 7-13-20; 8:45 am]

BILLING CODE 3410-34-P